DEPARTMENT OF COMMERCE

Foreign-Trade Zones Board

[Docket 42-2004]

Foreign-Trade Zone 230—Guilford, Forsyth, Davidson and Surry Counties, NC, Application for Manufacturing Authority, Diebold, Inc. (Automated Teller Machines); Lexington, NC

An application has been submitted to the Foreign-Trade Zones Board (the Board) by the Piedmont Triad Partnership, grantee of FTZ 230, requesting manufacturing authority within the general-purpose zone for the manufacturing and warehousing facilities of Diebold, Inc. (Diebold), located in Lexington, North Carolina. The application was submitted pursuant to the provisions of the Foreign-Trade Zones Act, as amended (19 U.S.C. 81a-81u), and the regulations of the Board (15 CFR part 400). It was formally filed on September 16, 2004.

The Diebold facility (135 employees) is located within Site 1 of FTZ 230, the Lexington Business Center, located at Hargrave Road and Business Interstate 5, Lexington, Davidson County. The facility will be used for the manufacturing and warehousing of automated teller machines (HTS 8472.90, duty-free). Components and materials sourced from abroad (representing 8-38% of all parts consumed in manufacturing) include: Card readers, dispensers, slide assemblies, power supplies, passbook printer modules, assy-cd's, printers, cables, legend sets, encrypted pin pads, upper unit cash modules, safes, acceptor modules, keytops, vandal shields and screens, monitors, cassette recyclers, recyclers and ribbons (HTS 7007.29, 8302.42, 8303.00, 8471.60, 8473.40, 8504.40, 8537.10, 8544.41, 9612.10 duty rate ranges from duty-free to 7.9 %).

FTZ procedures would exempt Diebold from Customs duty payments on the foreign components used in export production. The company anticipates that some 40 percent of the plant's shipments will be exported. On its domestic sales, Diebold would be able to choose the duty rates during Customs entry procedures that apply to finished ATM's (duty-free) for the foreign inputs noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230. The closing period for their receipt is November 23, 2004. Rebuttal comments in response to material submitted during the foregoing period may be submitted during the subsequent 15-day period (to December 8, 2004).

A copy of the application and accompanying exhibits will be available for public inspection at the Office of the Foreign-Trade Zones Board's Executive Secretary at the first address listed above, and at the U.S. Export Assistance Center, 342 North Elm Street, Greensboro, North Carolina 27401.

Dated: September 16, 2004.
Dennis Puccinelli,
Executive Secretary.

[FR Doc. 04-21515 Filed 9-23-04; 8:45 am]

BILLING CODE 3510-DS-P